ENVIRONMENTAL PROTECTION AGENCY

[ER-FRL-9022-8]

Environmental Impact Statements; Notice of Availability

Responsible Agency: Office of Federal Activities, General Information (202) 564-7146 or http://www2.epa.gov/nepa.

Weekly receipt of Environmental Impact Statements (EISs).

Filed 08/31/2015 Through 09/04/2015.

Pursuant to 40 CFR 1506.9.

Notice

Section 309(a) of the Clean Air Act requires that EPA make public its comments on EISs issued by other Federal agencies. EPA's comment letters on EISs are available at: http://www.cdxnodengn.epa.gov/cdx-enepa-public/action/eis/search.

EIS No. 20150253, Draft, USACE, PR, Caño Martín Peña Ecosystem Restoration Project, Comment Period Ends: 10/26/2015, Contact: Jim Suggs 904-232-1018.

EIS No. 20150254, Draft, FRA, AZ, Arizona Passenger Rail Corridor: Tucson to Phoenix, Comment Period Ends: 10/30/2015, Contact: Andrea Martin 202-493-6201.

EIS No. 20150255, Draft, USACE, TX, Sabine Pass to Galveston Bay, Texas, Coastal Storm Risk Reduction and Ecosystem Restoration, Comment Period Ends: 10/26/2015, Contact: Janelle Stokes 409-766-3039.

EIS No. 20150256, Draft, FERC, FL, Southeast Market Pipeline Project, Comment Period Ends: 10/26/2015, Contact: John Peconom 202-502-6352.

EIS No. 20150257, Final, USDA, PRO, Programmatic—Asian Longhorned Beetle Eradication Program, Review Period Ends: 10/12/2015, Contact: Jim E. Warren 202-316-3216.

EIS No. 20150258, Draft, USACE, CA, Panoche Valley Solar Facility, Comment Period Ends: 10/26/2015, Contact: Lisa M. Gibson 916-557-5288.

Amended Notices

EIS No. 20150210, Draft, USFS, WY, Teton to Snake Fuels Management, Comment Period Ends: 10/05/2015, Contact: Steve Markason 307-739-5431 Revision to FR Notice Published 08/07/2015; Extending Comment Period from 09/21/2015 to 10/05/2015.

Dated: September 8, 2015.
Karin Leff,
Acting Director, NEPA Compliance Division, Office of Federal Activities.

[FR Doc. 2015-22932 Filed 9-10-15; 8:45 am]

BILLING CODE 6560-50-P